DEPARTMENT OF DEFENSE

Office of the Secretary

[Docket ID: DOD-2017-OS-0006]

Privacy Act of 1974; System of Records

AGENCY: Office of the Secretary of Defense, DoD.

ACTION: Rescindment of a system of records notice.

SUMMARY: Pursuant to the Privacy Act of 1974 and Office of Management and Budget (OMB) Circular No. A-130, notice is hereby given that the Department of Defense proposes to delete a system of records, DGC 20, DoD Presidential Appointee Vetting File, last published at 65 FR 75246 on December 1, 2000. This system of records was originally created to facilitate the White House Presidential Appointee vetting process by assisting potential nominees as they completed the vetting documents.

Based on a recent review of DGC 20, DoD Presidential Appointee Vetting File, it was determined that this system of records is now appropriately covered under and is maintained in accordance with the government-wide Office of Government Ethics system of records notice OGE/GOVT-1, Executive Branch Personnel Public Financial Disclosure Reports and Other Name-Retrieved Ethics Program Records (December 9, 2013, 78 FR 73863). Accordingly, DGC 20 is duplicative and can be deleted.

DATES: Comments will be accepted on or before March 6, 2017. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate for Oversight and Compliance, 4800 Mark Center Drive, Mailbox #24, Suite 08D09B, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPDD), 1155 Defense Pentagon, Washington, DC 20301-1155, or by phone at (571) 372-0478.

SUPPLEMENTARY INFORMATION: The Office of the Secretary systems of records notices subject to the Privacy Act of 1974 (5 U.S.C. 552a), as amended, have been published in the Federal Register and are available from the address in FOR FURTHER INFORMATION CONTACT or at the Defense Privacy, Civil Liberties and Transparency Division Web site at http://dpcld.defense.gov/.

The Office of the Secretary proposes to delete one system of records notice from its inventory of record systems subject to the Privacy Act of 1974 (5 U.S.C. 552a), as amended. The proposed deletion is not within the purview of subsection (r) of the Privacy Act of 1974 (5 U.S.C. 552a), as amended, which requires the submission of a new or altered system report.

Based on a recent review of DGC 20, DoD Presidential Appointee Vetting File, it has been determined that the records are covered under and is maintained in accordance with OGE/GOVT-1, Executive Branch Personnel Public Financial Disclosure Reports and Other Name-Retrieved Ethics Program Records (December 9, 2013, 78 FR 73863). Therefore, DGC 20, DoD Presidential Appointee Vetting File can be deleted.

Dated: January 30, 2017.
Aaron Siegel,
Alternate OSD Federal Register Liaison Officer, Department of Defense.

System Name and Number:

DoD Presidential Appointee Vetting File, DGC 20.

HISTORY: December 1, 2000, 65 FR 75246.

[FR Doc. 2017-02224 Filed 2-1-17; 8:45 am]

BILLING CODE 5001-06-P